DEPARTMENT OF THE INTERIOR

National Park Service

[NPS-WASO-NAGPRA-13619; PPWOCRADN0-PCU00RP14.R50000]

Notice of Inventory Completion: Washington State Parks and Recreation Commission, Olympia, WA

AGENCY: National Park Service, Interior.

ACTION: Notice.

SUMMARY: The Washington State Parks and Recreation Commission has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Washington State Parks and Recreation Commission. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Washington State Parks and Recreation Commission at the address in this notice by September 16, 2013.

ADDRESSES: Alicia Woods, Washington State Parks and Recreation Commission, PO Box 42650, Olympia, WA 98504-2650, telephone (360) 902-0939, email Alicia.Woods@parks.wa.gov.

SUPPLEMENTARY INFORMATION: Notice is here given in accordance with the Native American Graves Protection and Repatriation Act (NAGPRA), 25 U.S.C. 3003, of the completion of an inventory of human remains and associated funerary objects under the control of the Washington State Parks and Recreation Commission. The human remains and associated funerary objects were removed from Riverside State Park, in Spokane County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Washington State Parks and Recreation Commission professional staff in consultation with representatives of the Coeur d'Alene Tribe (previously listed as the Coeur d'Alene Tribe of the Coeur d'Alene Reservation, Idaho) and the Spokane Tribe of the Spokane Reservation. The Kalispel Indian Community of the Kalispel Reservation was invited to consult but did not participate.

History and Description of the Remains

From 1950 through 1953, human remains representing, at minimum, three individuals were removed from site 45-SP-5 in Spokane County, WA. The human remains were excavated by Louis R. Caywood of the National Park Service under a contract with the Washington State Parks and Recreation Commission. The human remains and associated funerary objects were identified in 2005, and were transferred from a storage facility in Seattle, WA, to the Washington State Parks and Recreation Commission headquarters in Olympia, WA, sometime after 2006. No known individuals were identified. The four associated funerary objects are mammal bone.

During 1962 and 1963, human remains representing, at minimum, four individuals were removed from site 45-SP-5 in Spokane County, WA. The human remains were excavated by John D. Combes of Washington State University under a contract with the Washington State Parks and Recreation Commission. The human remains and associated funerary objects were identified in 2006, and were transferred from a storage facility in Seattle, WA, to the Washington State Parks and Recreation Commission headquarters in Olympia, WA, sometime after 2006. No known individuals were identified. The 120 associated funerary objects are 50 stone flakes; 47 unmodified stones; 1 unmodified concretion; 5 unmodified olivella shell; 4 lots of charcoal; 2 lots of mammal bone; 2 lots of metal fragments; 4 lots of shell fragments; 4 lots of wood fragments; and 1 lot of plant material.

At an unknown date, human remains representing, at minimum, one individual were removed from site 45-SP-5 in Spokane County, WA. In 2008, the human remains were discovered in a storage building located adjacent to the site and were transferred to the Washington State Parks and Recreation Commission headquarters in Olympia, WA. No known individuals were identified. No associated funerary objects are present.

The site is a burial ground that dates from before 1812 to approximately 1885. Based on the material recovered from a small percentage of the overall number of burials, it would appear the burials are associated with the “immediate pre-contact, fur trade, or post-fur trade periods” (Luttrell, 2011). These dates are supported by first-person accounts of the types and styles of burials during and following the fur trade era (Cox, 1957; Luttrell, 2011; Williams, 1922). The human remains recovered from this site are incomplete and culturally non-diagnostic. Due to the nature of the site, the antiquity of the remains, the objects recovered with the remains, and the general nature and history of the overall site, the Washington State Parks and Recreation Commission staff has determined that, more likely than not, the eight individuals are of Native American ancestry.

The Washington State Parks and Recreation Commission staff has determined there is a relationship of shared group identity between the human remains and associated funerary objects and the modern day tribes of the Coeur d'Alene Tribe (previously listed as the Coeur d'Alene Tribe of the Coeur d'Alene Reservation, Idaho); Kalispel Indian Community of the Kalispel Reservation; and the Spokane Tribe of the Spokane Reservation. This determination is based on ethnographic evidence that the Upper and Middle Spokane people predominantly resided in the area and utilized the resources of this site in the pre- and post-contact period. Connections between the three groups included intermarriage between the Spokane and Kalispel people and the Spokane and Coeur d'Alene people as well as shared linguistic heritage, overlapping trade networks, battle alliances, shared resource protection, cooperative hunting parties, and shared burial practices (especially between the Spokane and Kalispel peoples) (Fahey, 1986; Luttrell, 2011; Ruby and Brown, 1970 & 1981; Walker, 1998). Additionally, during consultation with the Spokane Tribe, representatives stated the site is a part of their people's traditional territory, and the burial ground is a sacred place of their people.

Determinations Made by the Washington State Parks and Recreation Commission

Officials of the Washington State Parks and Recreation Commission have determined that:

• Pursuant to 25 U.S.C. 3001(9), the human remains described in this notice represent the physical remains of eight individuals of Native American ancestry.

• Pursuant to 25 U.S.C. 3001(3)(A), the 124 objects described in this notice are reasonably believed to have been placed with or near individual human remains at the time of death or later as part of the death rite or ceremony.

• Pursuant to 25 U.S.C. 3001(2), there is a relationship of shared group identity that can be reasonably traced between the Native American human remains and associated funerary objects and the Coeur d'Alene Tribe (previously listed as the Coeur d'Alene Tribe of the Coeur d'Alene Reservation, Idaho); Kalispel Indian Community of the Kalispel Reservation; and the Spokane Tribe of the Spokane Reservation.

Additional Requestors and Disposition

Lineal descendants or representatives of any Indian tribe or Native Hawaiian organization not identified in this notice that wish to request transfer of control of these human remains and associated funerary objects should submit a written request with information in support of the request Alicia Woods, Washington State Parks and Recreation Commission, PO Box 42650, Olympia, WA 98504-2650, telephone (360) 902-0939, email Alicia.Woods@parks.wa.gov by by September 16, 2013. After that date, if no additional requestors have come forward, transfer of control of the human remains and associated funerary objects to the Coeur d'Alene Tribe (previously listed as the Coeur d'Alene Tribe of the Coeur d'Alene Reservation, Idaho); Kalispel Indian Community of the Kalispel Reservation; and the Spokane Tribe of the Spokane Reservation may proceed.

The Washington State Parks and Recreation Commission is responsible for notifying the Coeur d'Alene Tribe (previously listed as the Coeur d'Alene Tribe of the Coeur d'Alene Reservation, Idaho); Kalispel Indian Community of the Kalispel Reservation; and the Spokane Tribe of the Spokane Reservation that this notice has been published.

Dated: July 24, 2013.
Sherry Hutt,
Manager, National NAGPRA Program.

[FR Doc. 2013-20041 Filed 8-15-13; 8:45 am]

BILLING CODE 4312-50-P